ENVIRONMENTAL PROTECTION AGENCY

[FRL-8746-8]

National Advisory Council for Environmental Policy and Technology

AGENCY: Environmental Protection Agency (EPA).

ACTION: Notice of meeting.

SUMMARY: Under the Federal Advisory Committee Act, Pub. L. 92463, EPA gives notice of a public teleconference of the National Advisory Council for Environmental Policy and Technology (NACEPT). NACEPT provides advice to the EPA Administrator on a broad range of environmental policy, technology, and management issues. NACEPT represents diverse interests from academia, industry, non-governmental organizations, and local, state, and tribal governments. The purpose of this teleconference is to discuss and approve draft NACEPT recommendations on EPA's Draft Biofuels Strategy and the 2009-2014 EPA Strategic Plan Change Document. A copy of the agenda for the meeting will be posted at http://www.epa.gov/ocem/nacept/cal-nacept.htm.

DATES: NACEPT will hold a public teleconference on Monday, December 15, 2008, from 2 p.m.-4 p.m. Eastern Standard Time.

ADDRESSES: The meeting will be held in the U.S. EPA East Building, 1201 Constitution Ave., NW., Room 1132, Washington, DC 20004.

FOR FURTHER INFORMATION CONTACT: Sonia Altieri, Designated Federal Officer, altieri.sonia@epa.gov, (202) 564-0243, U.S. EPA, Office of Cooperative Environmental Management (1601M), 1200 Pennsylvania Avenue, NW., Washington, DC 20460.

SUPPLEMENTARY INFORMATION: Requests to make oral comments or to provide written comments to NACEPT should be sent to Sonia Altieri, Designated Federal Officer, at the contact information above by Wednesday, December 10, 2008. The public is welcome to attend all portions of the meeting, but seating is limited and is allocated on a first-come, first-served basis. Members of the public wishing to gain access to the conference room on the day of the meeting must contact Sonia Altieri at (202) 564-0243 or altieri.sonia@epa.gov by December 10, 2008.

Meeting Access: For information on access or services for individuals with disabilities, please contact Sonia Altieri at (202) 564-0243 or altieri.sonia@epa.gov. To request accommodation of a disability, please contact Sonia Altieri, preferably at least 10 days prior to the meeting, to give EPA as much time as possible to process your request.

Dated: November 18, 2008.
Sonia Altieri,
Designated Federal Officer.

[FR Doc. E8-28342 Filed 11-26-08; 8:45 am]

BILLING CODE 6560-50-P